DEPARTMENT OF ENERGY

Federal Energy Regulatory Commission

[Docket No. ER01-890-002, et al.]

Boston Edison Company, et al.; Electric Rate and Corporate Regulation Filings

April 10, 2001.

Take notice that the following filings have been made with the Commission:

1. Boston Edison Company

[Docket No. ER01-890-002]

Take notice that on April 2, 2001, Boston Edison Company (Boston Edison) tendered for filing an unexecuted Interconnection Agreement between Boston Edison and Sithe Mystic Development LLC in compliance with the Commission's March 5, 2001 order in Docket No. ER01-890-000. The compliance filing contains appropriate designations as required by Order No. 614.

Comment date: April 23, 2001, in accordance with Standard Paragraph E at the end of this notice.

2. Maine Electric Power Company

[Docket No. ER01-1362-001]

Take notice that on April 5, 2001, Maine Electric Power Company (MEPCO) tendered for filing with the Federal Energy Regulatory Commission (Commission) two substitute pages that replace pages in the Chester SVC Partnership Basic Operating Agreement (Agreement) to correct certain inconsistencies in the Agreement's page numbering.

Comment date: April 26, 2001, in accordance with Standard Paragraph E at the end of this notice.

3. PJM Interconnection, L.L.C.

[Docket No. ER01-1621-001]

Take notice that on April 3, 2001, PJM Interconnection, L.L.C. amended its filing in the above-reference docket correcting Schedules 7 and 8 of the PJM Tariff and Exhibit 2 to the filing.

Copies of this filing have been served on all PJM Members and the state electric utility commissions within the PJM Control Area.

Comment date: April 24, 2001, in accordance with Standard Paragraph E at the end of this notice.

4. Entergy Services, Inc.

[Docket No. ER01-1720-000]

Take notice that on April 4, 2001, Entergy Services, Inc. (Entergy Services), on behalf of Entergy Arkansas, Inc., Entergy Gulf States, Inc., Entergy Louisiana, Inc., Entergy Mississippi, Inc., and Entergy New Orleans, Inc. (collectively, the Entergy Operating Companies), submitted for filing an Amendment to the Network Integration Transmission Service Agreement between Energy Services, as agent for the Entergy Operating Companies, and Louisiana Generating LLC.

Comment date: April 25, 2001, in accordance with Standard Paragraph E at the end of this notice.

5. Entergy Nuclear Indian Point 2, LLC

[Docket No. ER01-1721-000]

Take notice that on April 4, 2001, Entergy Nuclear Indian Point 2, LLC (ENIP2) tendered for filing an application for authorization to sell capacity, energy and ancillary services at market-based rates pursuant to section 205 of the Federal Power Act. ENIP2 also requests that the Commission accept for filing a long-term power purchase agreement for the sale of power from ENIP2 to Consolidated Edison Company of New York, Inc. as a stand-alone rate schedule to ENIP2's proposed market-based rate tariff.

Copies of the filing were served upon the Arkansas Public Service Commission, Louisiana Public Service Commission, Mississippi Public Service Commission, Council of the City of New Orleans, Texas Public Utility Commission, New York State Department of Public Service, and Consolidated Edison Company of New York, Inc.

Comment date: April 25, 2001, in accordance with Standard Paragraph E at the end of this notice.

6. Cinergy Services, Inc.

[Docket No. ER01-1722-000]

Take notice that on April 3, 2001, Cinergy Services, Inc. (Cinergy) tendered for filing a Notice of Cancellation of NP Energy, Inc. for the Cost-Based Power Sales, Market-Based Power Sales, and the Resale, Assignment or Transfer of Transmission Rights and Ancillary Service Rights. Cinergy respectfully requests waiver of any applicable regulation to the extent necessary to make the tariff changes effective as of the date of each of the listed name changes.

A copy of the filing has been served to NP Energy, Inc.

Comment date: April 24, 2001, in accordance with Standard Paragraph E at the end of this notice.

7. Cinergy Services, Inc.

[Docket No. ER01-1723-000]

Take notice that on April 3, 2001, Cinergy Services, Inc. (Cinergy) tendered for filing a Market-Based Service Agreement under Cinergy's Market-Based Power Sales Standard Tariff-MB (the Tariff) entered into between Cinergy and Consumers Energy Company (Consumers Energy).

Cinergy and Consumers Energy are requesting an effective date of April 1, 2001.

Comment date: April 24, 2001, in accordance with Standard Paragraph E at the end of this notice.

8. Cinergy Services, Inc.

[Docket No. ER01-1724-000]

Take notice that on April 3, 2001, Cinergy Services, Inc. (Cinergy) and SE Holdings, L.L.C., now Strategic Energy, L.L.C. are requesting a cancellation of Service Agreement No. 122, under Cinergy Operating Companies, Resale of Transmission Rights and Ancillary Service Rights, FERC Electric Tariff Original Volume No. 8.

Cinergy requests an effective date of March 1, 2001.

Comment date: April 24, 2001, in accordance with Standard Paragraph E at the end of this notice.

9. Cinergy Services, Inc.

[Docket No. ER01-1725-000]

Take notice that on April 3, 2001, Cinergy Services, Inc. (Cinergy) tendered for filing a Service Agreement under Cinergy's Resale, Assignment or Transfer of Transmission Rights and Ancillary Service Rights Tariff (the Tariff) entered into between Cinergy and OGE Energy Resources, Inc. (OGE Energy). This Service Agreement has been executed by both parties and is to replace the existing unexecuted Service Agreement.

Comment date: April 24, 2001, in accordance with Standard Paragraph E at the end of this notice.

10. Cinergy Services, Inc.

[Docket No. ER01-1726-000]

Take notice that on April 3, 2001, Cinergy Services, Inc. (Cinergy) tendered for filing a Market-Based Service Agreement under Cinergy's Market-Based Power Sales Standard Tariff-MB (the Tariff) entered into between Cinergy and Oglethorpe Power Corporation (OPC).

Cinergy and OPC are requesting an effective date of March 7, 2001.

Comment date: April 24, 2001, in accordance with Standard Paragraph E at the end of this notice.

11. Electric Energy, Inc.

[Docket No. ER01-1727-000]

Take notice that on April 5, 2001, Electric Energy, Inc. (EEInc.) tendered for filing an amendment to its open access transmission tariff (OATT). EEInc. claims that its proposed amendment (Attachment F to EEInc.'s OATT) sets forth the procedures that will be applicable when an operator of a new generation facility seeks to interconnect with EEInc.'s transmission facilities.

EEInc. claims further that its filing is consistent with generation interconnection tariffs of other utilities that have recently been approved by the Commission.

EEInc. states that it has served copies of this filing upon all of its firm transmission customers.

Comment date: April 26, 2001, in accordance with Standard Paragraph E at the end of this notice.

12. California Independent System Operator Corporation

[Docket No. ER01-1728-000]

Take notice that the California Independent System Operator Corporation (ISO), on April 5, 2001, tendered for filing a Meter Service Agreement for Scheduling Coordinators between the ISO and Viasyn, Inc. for acceptance by the Commission.

The ISO states that this filing has been served on Viasyn, Inc. and the California Public Utilities Commission.

The ISO is requesting waiver of the 60-day notice requirement to allow the Meter Service Agreement to be made effective as of March 30, 2001.

Comment date: April 26, 2001, in accordance with Standard Paragraph E at the end of this notice.

13. Puget Sound Energy, Inc.

[Docket No. ER01-1729-000]

Take notice that on April 5, 2001, Puget Sound Energy, Inc., as Transmission Provider, tendered for filing a Service Agreement for Firm Point-To-Point Transmission Service and a Service Agreement for Non-Firm Point-To-Point Transmission Service with PacifiCorp, as Transmission Customer.

A copy of the filing was served upon PacifiCorp.

Comment date: April 26, 2001, in accordance with Standard Paragraph E at the end of this notice.

14. PJM Interconnection, L.L.C.

[Docket No. ER01-1730-000]

Take notice that on April 5, 2001, PJM Interconnection, L.L.C. (PJM), on behalf of the PJM Reliability Committee, tendered for filing amendments to Schedules 5.2 of the Reliability Agreement Among Load Serving Entities in the PJM Control Area (RAA) to continue the current ALM credit treatment under the RAA.

PJM requests a waiver of the Commission's 60-day notice requirement to permit a June 1, 2001 effective date for the amendments.

Copies of this filing were served upon all parties to the RAA and each state electric utility regulatory commission in the PJM control area.

Comment date: April 26, 2001, in accordance with Standard Paragraph E at the end of this notice.

15. Public Service Company of New Mexico

[Docket No. ER01-1731-000]

Take notice that on April 4, 2001, Public Service Company of New Mexico (PNM) submitted for filing two executed service agreements with Axia Energy, L.P. (Axia), under the terms of PNM's Open Access Transmission Tariff. One agreement is for short-term firm point-to-point transmission service and one is for non-firm point-to-point transmission service. Both agreements are dated March 26, 2001. PNM's filing is available for public inspection at its offices in Albuquerque, New Mexico.

Copies of the filing have been sent to Axia and to the New Mexico Public Regulation commission.

Comment date: April 25, 2001, in accordance with Standard Paragraph E at the end of this notice.

16. Virginia Electric and Power Company

[Docket No. ER01-1732-000]

Take notice that on April 4, 2001, Virginia Electric and Power Company, doing business as Dominion Virginia Power (the Company), filed copies of a letter agreement between Virginia Municipal Electric Association No. 1 (VMEA) and the Company. The letter agreement, dated August 27, 1999, adds a new delivery point to the Agreement for the Purchase of Electricity for Resale between VMEA and the Company, First Revised Rate Schedule FERC No. 109.

The Company requests waiver of the Commission's notice of filing requirements to allow the letter agreement to become effective on May 15, 2001. The Company will begin service under the new delivery point on or after May 15, 2001.

Copies of the filing were served upon the VMEA, the Virginia State Corporation Commission and the North Carolina Utilities Commission.

17. Idaho Power Company

[Docket No. ER01-1733-000]

Take notice that on April 4, 2001, Idaho Power Company (IPC) tendered for filing with the Federal Energy Regulatory Commission a Service Agreement under Idaho Power Company FERC Electric Tariff No. 6, Market Rate Power Sales Tariff, between Idaho Power Company and Public Utility District No. 1 of Cowlitz County, Washington.

Idaho Power requests the Service Agreement become effective March 14, 2001.

Comment date: April 25, 2001, in accordance with Standard Paragraph E at the end of this notice.

18. Idaho Power Company

[Docket No. ER01-1734-000]

Take notice that on April 4, 2001, Idaho Power Company (Idaho Power) tendered for filing with the Federal Energy Regulatory Commission (Commission) a long-term service agreement under its open access transmission tariff.

Idaho Power requests that the Service Agreement be made effective on April 1, 2001.

Comment date: April 25, 2001, in accordance with Standard Paragraph E at the end of this notice.

19. Rochester Gas and Electric Corporation

[Docket No. ER01-1735-000]

Take notice that on April 5, 2001, Rochester Gas and Electric Corporation (RG&E) tendered for filing an Application in the above-referenced proceeding requesting that the Commission extend the authorization previously granted to RG&E to make sales to an affiliate in conjunction with the Retail Access Program.

RG&E also requests expedited treatment of its Application so that the Commission may issue an order by April 24, 2001.

Comment date: April 26, 2001, in accordance with Standard Paragraph E at the end of this notice.

20. California Independent System Operator Corporation

[Docket No. ER01-1736-000]

Take notice that on April 5, 2001, the California Independent System Operator Corporation (ISO), tendered for filing a Scheduling Coordinator Agreement between the ISO and Viasyn, Inc. for acceptance by the Commission.

The ISO states that this filing has been served on Viasyn, Inc. and the California Public Utilities Commission

The ISO is requesting waiver of the 60-day notice requirement to allow the Scheduling Coordinator Agreement to be made effective as of March 30, 2001.

Comment date: April 26, 2001, in accordance with Standard Paragraph E at the end of this notice.

21. Trigen-Syracuse Energy Corp.

[Docket No. ER01-1737-000]

Take notice that on April 4, 2001, Trigen-Syracuse Energy Corp. (Trigen-Syracuse) tendered for filing with the Federal Energy Regulatory Commission (Commission) a Notice of Partial Cancellation of Trigen-Syracuse First Revised Rate Schedule FERC No. 1, canceling an agreement for the sale of energy from Trigen-Syracuse to Sempra Energy Trading Corp., and Trigen-Syracuse Second Revised Rate Schedule FERC No. 1, reflecting the proposed cancellations.

Comment date: April 25, 2001, in accordance with Standard Paragraph E at the end of this notice.

22. Idaho Power Company

[Docket No. ER01-1738-000]

Take notice that on April 5, 2001, Idaho Power Company tendered for filing a Service Agreement for Firm and Non-Firm Point-to-Point Transmission Service between Idaho Power Company and Merchant Energy Company of the Americas under its open access transmission tariff in the above-captioned proceeding.

Comment date: April 26, 2001, in accordance with Standard Paragraph E at the end of this notice.

23. Puget Sound Energy, Inc.

[Docket No. ER01-1739-000]

Take notice that on April 5, 2001, Puget Sound Energy, Inc., as Transmission Provider, tendered for filing a Service Agreement for Firm Point-To-Point Transmission Service and a Service Agreement for Non-Firm Point-To-Point Transmission Service with BP Energy Company, as Transmission Customer. A copy of the filing was served upon BP Energy Company.

Comment date: April 26, 2001, in accordance with Standard Paragraph E at the end of this notice.

24. New York Independent System Operator, Inc.

[Docket No. ER01-1740-000]

Take notice that on April 5, 2001, the New York Independent System Operator, Inc. (NYISO) tendered for filing revisions to its Market Administration and Control Area Services Tariff (Services Tariff) and Open-Access Transmission Tariff in order to implement an Incentivized Day-Ahead Economic Load Curtailment Program. The NYISO has requested an effective date of May 1, 2001 for the filing.

The NYISO has served a copy of this filing upon all parties that have executed Service Agreements under the NYISO's OATT and Services Tariff, as well as the New York State Public Service Commission.

Comment date: April 26, 2001, in accordance with Standard Paragraph E at the end of this notice.

25. New England Power Pool

[Docket No. ER01-1741-000]

Take notice that on April 5, 2001, the New England Power Pool (NEPOOL) Participants Committee tendered for filing the NEPOOL Open Access Transmission Tariff Ancillary Service Schedule 16 (System Restoration and Planning Service from Generators) Implementation Rule (the Schedule 16 Implementation Rule), which provides additional details regarding the implementation of the Commission's requirements with respect to Schedule 16 of the Tariff set forth in the July 12, 2000 order in New England Power Pool, 92 FERC & 61,020 (2000).

NEPOOL has requested a June 1, 2001 effective date for the Schedule 16 Implementation Rule.

The NEPOOL Participants Committee states that copies of these materials were sent to the NEPOOL Participants and the six New England state governors and regulatory commissions.

Comment date: April 26, 2001, in accordance with Standard Paragraph E at the end of this notice.

26. Northwestern Wisconsin Electric Company

[Docket No. ER01-1745-000]

Take notice that on April 5, 2001, Northwestern Wisconsin Electric Company, tendered for filing proposed changes in its Transmission Use Charge, Rate Schedule FERC No. 2. The proposed changes would increase revenues from jurisdictional sales by $6,449.91 based on the 12 month period ending April 30, 2001. Northwestern Wisconsin Electric Company is proposing this rate schedule change to more accurately reflect the actual cost of transmitting energy from one utility to another based on current cost data. The service agreement for which this rate is calculated calls for the Transmission Use Charge to be reviewed annually and revised on May 1.

Northwestern Wisconsin Electric Company requests this Rate Schedule Change become effective May 1, 2001.

Copies of this filing have been provided to the respective parties and to the Public Service Commission of Wisconsin.

Comment date: April 26, 2001, in accordance with Standard Paragraph E at the end of this notice.

27. NESI Power Marketing, Inc.

[Docket No. ER01-1748-000]

Take notice that on April 5, 2001, NESI Power Marketing, Inc. (NESI) tendered for filing a Notice of Cancellation of its FERC Rate Schedule No. 1 (market-based rate authority) and Supplement No. 1 (code of conduct).

NESI states that, as it is not regulated by a state commission, has no long-term customers, and has no outstanding market-based rate transactions, it has not served copies of this filing upon any entity.

Comment date: April 26, 2001, in accordance with Standard Paragraph E at the end of this notice.

28. Northwestern Corporation

[Docket No. ES01-28-000]

Take notice that on April 5, 2001, Northwestern Corporation (Northwestern) submitted an application pursuant to section 204 of the Federal Power Act seeking authorization to issue (1) not more than 10 million shares of Northwestern's common stock, par value $1.75 per share, including related common stock purchase rights, and (2) not more than $300 million of Northwestern's mortgage bonds, notes, debentures, subordinated debentures, guarantees or other evidences of indebtedness, including so-called monthly income preferred securities, quarterly income preferred securities, trust originated preferred securities, trust preferred securities or variations thereof.

Northwestern also requests a waiver from the Commission's competitive bidding and negotiated placement requirements at 18 CFR 34.2.

Comment date: May 1, 2001, in accordance with Standard Paragraph E at the end of this notice.

29. Cambria CoGen Company

[Docket No. QF87-93-007]

Take notice that on March 30, 2001, Cambria CoGen Company, 7201 Hamilton Boulevard Allentown, Pennsylvania 18195, filed with the Federal Energy Regulatory Commission (the Commission) an Application for Recertification of the Cambria Project (the Facility) as a qualifying small power production facility pursuant to § 292.207(b) of the Commission's regulations.

The Facility is a fluidized bed electric generating facility located near Ebensburg, Cambria Township, Pennsylvania, with a maximum net electric energy production capacity of approximately 89 MW. The primary energy source is bituminous coal refuse.

The Facility interconnects with, sells electric energy to, and purchases supplementary, standby, back-up and maintenance power from Pennsylvania Electric Company (doing business as GPU Energy).

Comment date: April 30, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9417 Filed 4-16-01; 8:45 am]

BILLING CODE 6717-01-P